DEPARTMENT OF LABOR

Employment and Training Administration

[TA-W-51,120]

Sun Apparel of Texas, Jones Apparel of Texas Ltd, Armour Facility Print Shop, El Paso, Texas; Amended Notice of Determinations Regarding Application for Reconsideration

In accordance with Section 223 of the Trade Act of 1974 (19 U.S.C. 2273) the Department of Labor issued a Notice of Determinations Regarding Application for Reconsideration on July 1, 2003, applicable to workers of Sun Apparel of Texas, Armour Facility, El Paso, Texas. The notice was published in the Federal Register on July 15, 2003 (68 FR 41847-41848).

At the request of the State agency, the Department reviewed the certification for workers of the subject firm. The workers were engaged in the production of jokers (waist band labels) and stickers (leg stickers used to designate size).

New information shows that Jones Apparel of Texas Ltd is the parent firm of Sun Apparel of Texas. Workers separated from employment at the subject firm had their wages reported under a separate unemployment insurance (UI) tax account for Jones Apparel of Texas Ltd.

Accordingly, the Department is amending the certification to properly reflect this matter.

The intent of the Department's certification is to include all workers of the Print Shop working at Sun Apparel of Texas, Jones Apparel of Texas Ltd, Armour Facility, El Paso, Texas who were adversely affected by increased imports.

The amended notice applicable to TA-W-51,120 is hereby issued as follows:

All workers of Sun Apparel of Texas, Jones Apparel of Texas Ltd, Armour Facility, Print Shop, El Paso, Texas, who became totally or partially separated from employment on or after January 8, 2002, through July 1, 2005, are eligible to apply for adjustment assistance under Section 223 of the Trade Act of 1974.

Signed at Washington, DC this 24th day of July, 2003.
Elliott S. Kushner,
Certifying Officer, Division of Trade Adjustment Assistance.

[FR Doc. 03-20103 Filed 8-6-03; 8:45 am]

BILLING CODE 4510-30-P